NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by May 25, 2017. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nature McGinn, ACA Permit Officer, at the above address or ACApermits@nsf.gov.

SUPPLEMENTARY INFORMATION: The National Science Foundation, as directed by the Antarctic Conservation Act of 1978 (Pub. L. 95-541, 45 CFR 670), as amended by the Antarctic Science, Tourism and Conservation Act of 1996, has developed regulations for the establishment of a permit system for various activities in Antarctica and designation of certain animals and certain geographic areas requiring special protection. The regulations establish such a permit system to designate Antarctic Specially Protected Areas.

Application Details

Permit Application: 2018-001

1. Applicant: John H. Postlethwait, University of Oregon, 1425 E. 13th Avenue, Eugene, OR 97403

Activity for Which Permit is Requested: Enter Antarctic Specially Protected Areas. A permit is requested to enter ASPA 152 (Western Bransfield Strait) and ASPA 153 (Eastern Dallmann Bay) using the ARSV Laurence M. Gould to capture Antarctic fish by trawling and trapping. The collected fish would be used to study the genetic regulatory mechanism in Antarctic fish biology and their adaptation to the cold Antarctic environment. Approximately 50 hours of trawling would be conducted in ASPA 152 and approximately 20 hours would be conducted in ASPA 153. Sixteen traps would be set and allowed to soak for a total of 6 days. It is anticipated that approximately four hundred (400) individual fish representing four species (Notothenia coriiceps, Chaenocephalus aceratus, Champsocephalus gunnari, Gobionotothen gibberifrons) would be captured in the ASPAs and used in the study. Live fishes would be transported to the aquarium facilities at Palmer Station for experimentation. Physiological and biochemical experiments would be conducted. All experimental animals would be humanely euthanized and properly disposed of outside the ASPAs.

Location: ASPA 152 Western Bransfield Strait and ASPA 153 Eastern Dallmann Bay.

Dates: June 28-September 3, 2017.

Nadene G. Kennedy,
Polar Coordination Specialist, Office of Polar Programs.

[FR Doc. 2017-08040 Filed 4-24-17; 8:45 am]

BILLING CODE 7555-01-P